DEPARTMENT OF HOMELAND SECURITY

Federal Emergency Management Agency

[Docket ID: FEMA-2024-0017; OMB No. 1660-NW173]

Agency Information Collection Activities: Submission for OMB Review, Comment Request; Generic Clearance for United States Fire Administration Training, Research, Data, and Prevention Collection

AGENCY: Federal Emergency Management Agency, Department of Homeland Security.

ACTION: 30-Day notice of new collection and request for comments.

SUMMARY: The Federal Emergency Management Agency (FEMA) will submit the information collection abstracted below to the Office of Management and Budget for review and clearance in accordance with the requirements of the Paperwork Reduction Act of 1995. FEMA invites the general public to take this opportunity to comment on a new generic information collection. In accordance with the requirements of the Paperwork Reduction Act of 1995, this notice seeks comments concerning the creation of a new generic collection to allow faster implementation of feedback from our respondents into the instruments used by the United States Fire Administration (USFA) every day.

DATES: Comments must be submitted on or before December 2, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C St. SW, Washington, DC 20472, FEMA-Information-Collections-Management@fema.dhs.gov or Ashlee Vandewater, Program Specialist, United States Fire Administration, ashlee.vandewater@fema.dhs.gov or 301-447-1483.

SUPPLEMENTARY INFORMATION: The Federal Fire Prevention and Control Act of 1974 (Pub. L. 93-498, as amended) (15 U.S.C. 2201 et seq.) originates from an exhaustive and comprehensive examination of the Nation's fire problem, which made detailed findings as to the extent of this problem in terms of human suffering and loss of life and property, and it made ninety thoughtful recommendations. Many of these recommendations relate directly to the instruments which are a part of this information collection such as the National Fire Data Center, the National Fire Academy, and the Fire & Emergency Management Services (EMS) information requests for safety and educational materials.

Executive Order 12862 directs Federal Agencies to provide service to the public that matches or exceeds the best service available in the private sector. To work continuously to ensure that our programs are effective and meet our customers' needs, FEMA seeks to obtain Office of Management and Budget approval of a generic clearance to collect qualitative and quantitative data feedback on our service delivery. By qualitative feedback, we mean information that provides useful insights on perceptions and opinions and numerical data on fire and EMS incidents that yield quantitative results that can be generalized to the population of study.

USFA maintains several information technology systems which assist USFA in delivering information, products, and services to the fire service, affiliated organizations, and the public. Collecting information for these instruments aids in the administration of USFA programs in support of State, local, Tribal, and territorial assistance as well as individuals, Federal Government, and members of the private sector.

This information collection is necessary to enable the USFA to garner customer and stakeholder feedback in an efficient, timely manner in accordance with our commitment to improving service delivery. The information collected from our customers and stakeholders will help ensure that users have an effective, efficient, and satisfying experience with the USFA's programs. This feedback will provide insights into customer or stakeholder perceptions, experiences, and expectations; provide an early warning of issues with service; or focus attention on areas where communication, training, or changes in operations might improve delivery of products or services. These collections will allow for ongoing, collaborative, and actionable communications between the USFA and its customers and stakeholders. It will also allow feedback to contribute directly to the improvement of program management.

This proposed information collection previously published in the Federal Register on May 21, 2024, at 89 FR 44693 with a 60-day public comment period. No comments were received. The purpose of this notice is to notify the public that FEMA will submit the information collection abstracted below to the Office of Management and Budget for review and clearance.

Collection of Information

Title: Generic Clearance for United States Fire Administration Training, Research, Data, and Prevention Collection.

Type of Information Collection: New information collection.

OMB Number: 1660-NW173.

FEMA Forms: Not Applicable.

Abstract: The United States Fire Administration (USFA) provides these forms to support State, local, Tribal, and territorial organizations as well as individuals of the public, Federal Government, and private sector members through the information, products, and services relevant to the fire service, affiliated organizations, and the public. Collecting of information for these forms aid in the administration of USFA programs, such as the National Fire Data Center, several fire data repositories, the National Fire Academy, and fire and emergency management services information requests for safety and educational materials, just to name a few.

Affected Public: State, Local, or Tribal Governments; Private Sector, For profit; Private Sector; Not for profit.

Estimated Number of Respondents: 291,537.

Estimated Number of Responses: 28,324,337.

Estimated Total Annual Burden Hours: 6,670,972.

Estimated Total Annual Respondent Cost: $351,426,805.

Estimated Respondents' Operation and Maintenance Costs: $0.00.

Estimated Respondents' Capital and Start-Up Costs: $0.00.

Estimated Total Annual Cost to the Federal Government: $5,143,602.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-25448 Filed 10-31-24; 8:45 am]

BILLING CODE 9111-45-P